DEPARTMENT OF HEALTH AND HUMAN SERVICES

Centers for Disease Control and Prevention

[Program Announcement 04270]

Capacity Building in the Implementation of a Comprehensive Program To Prevent Mother to Child HIV Transmission at University of Nairobi Teaching Hospitals; Notice of Intent To Fund Single Eligibility Award

A. Purpose

The Centers for Disease Control and Prevention (CDC) announces the intent to fund fiscal year (FY) 2004 funds for a cooperative agreement program to facilitate the implementation of a comprehensive prevention of mother to child transmission program (PMTCT) at the Kenyatta National Hospital and Pumwani Maternity Hospital (the two largest maternity units in Kenya and the clinical teaching settings for the University of Nairobi's Department of Obstetrics and Gynecology). The program will also integrate PMTCT training into the existing curricula of different cadres of health service providers (nurse-midwives, clinical officers and undergraduate and postgraduate doctors) being trained by the medical school.

The Catalog of Federal Domestic Assistance number for this program is 93.941.

B. Eligible Applicant

Assistance will be provided only to the University of Nairobi. No other applications are solicited.

The University of Nairobi Medical School is the only institution that can provide technical assistance and capacity building to the two teaching hospitals to implement the PMTCT program due to its special relationship with the two institutions. The Kenyatta National Referral Hospital serves as the teaching hospital for the University of Nairobi and sets the standards for medical care within the country. Historically, for the purpose of training, the University of Nairobi Medical School has also established strong links with the Pumwani Maternity Hospital (PMH). Kenyatta National Hospital and Pumwani Maternity Hospital cannot run without University of Nairobi staff. The University deploys obstetricians, residents and nurse midwives to Pumwani Maternity Hospital and has recently assisted the maternity in implementing a PMTCT program. Pumwani is the largest maternity hospital, not only in Kenya but also in sub-Saharan Africa. With approximately 22,000 deliveries per year and a prevalence rate of HIV of 10-15 percent, a PMTCT program in this facility may prevent a substantial amount of HIV transmission.

The University of Nairobi has well renowned experts in the field of PMTCT who provide technical guidance on the implementation of this program. In addition, as the premier medical training institution in the country, the University of Nairobi is well placed to initiate a pre-service training program on PMTCT to meet the capacity needs of the national PMTCT program.

C. Funding

Approximately $500,000 is available in FY 2004 to fund this award. It is expected that the award will begin on or before August 15, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Fabian Mwanyumba, MBChB, MPH, PhD, Technical Advisor PMTCT, Global Aids Program [GAP], Centers for Disease Control and Prevention [CDC], PO Box 606 Village Market, Nairobi, Kenya, Telephone: 256-20-271-3008, E-mail: FMwanyumba@cdcnairobi.mimcom.net.

Dated: July 16, 2004.
William P. Nichols, MPA,
Acting Director, Procurement and Grants Office, Centers for Disease Control and Prevention.

[FR Doc. 04-16805 Filed 7-22-04; 8:45 am]

BILLING CODE 4163-18-P